COMMITTEE FOR THE IMPLEMENTATION OF TEXTILE AGREEMENTS

Removal of Export Visa and Folklore Certification Requirements for Certain Wool and Man-Made Fiber Textile Products Produced or Manufactured in the United Mexican States

January 21, 2004.

AGENCY: Committee for the Implementation of Textile Agreements (CITA).

ACTION: Issuing a directive to the Commissioner, Bureau of Customs and Border Protection removing visa and folklore certification requirements.

EFFECTIVE DATE: January 23, 2004.

FOR FURTHER INFORMATION CONTACT: Naomi Freeman, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

Pursuant to the North American Free Trade Agreement, the existing export visa and folklore certification requirements are being canceled for textile products no longer subject to restrictions or consultations levels which are exported from Mexico on and after January 1, 2004.

A description of the textile and apparel categories in terms of HTS numbers is available in the CORRELATION: Textile and Apparel Categories with the Harmonized Tariff Schedule of the United States (see Federal Register notice 68 FR 1599, published on January 13, 2003). Information regarding the availability of the 2004 CORRELATION will be published in the Federal Register at a later date. Also see 58 FR 69350, published on December 30, 1993.

James C. Leonard III,
Chairman, Committee for the Implementation of Textile Agreements.

The Committee for the Implementation of Textile Agreements

January 21, 2004.

Commissioner,

Bureau of Customs and Border Protection, Washington, DC 20229.

Dear Commissioner: This amends, but does not cancel, the directive issued to you on December 27, 1993, as amended, by the Chairman, Committee for the Implementation of Textile Agreements. That directive directed you to prohibit entry of certain cotton, wool and man-made fiber textile products, produced or manufactured in Mexico for which the government of the United Mexican States has not issued an appropriate visa.

Pursuant to section 204 of the Agricultural Act of 1956, as amended (7 U.S.C. 1854) and Executive Order 11651 of March 3, 1972, as amended; and pursuant to the North America Free Trade Agreement (NAFTA) between the Governments of the United States, the United Mexican States and Canada, effective on January 23, 2004, the visa and folklore certification requirements in the above referenced directive will not apply to Categories 410, 433, 443 and 611, as they are no longer subject to restrictions or consultation levels. Therefore, effective on January 23, 2004, you are directed to cancel the visa and folklore certification requirements for goods in these categories exported on and after January 1, 2004.

The Committee for the Implementation of Textile Agreements has determined that this action falls within the foreign affairs exception of the rulemaking provisions of 5 U.S.C. 553(a)(1).

Sincerely,
James C. Leonard III,
Chairman, Committee for the Implementation of Textile Agreements.

[FR Doc. 04-1560 Filed 1-21-04; 2:14 pm]

BILLING CODE 3510-DR-S